DEPARTMENT OF HOUSING AND URBAN DEVELOPMENT

[Docket No. FR-4817-N-05]

Notice of Proposed Information Collection for Public Comment—PHA-Owned or Leased Projects, Maintenance and Operation—Resident Allowance for Utilities Documentation

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: June 6, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) Enhance the quality, utility, and clarity of the information to be collected; and (4) minimize the burden of the collection of information on those who are to respond, including through the use of appropriate automated collection techniques or other forms of information technology; e.g., permitting electronic submission of responses.

This Notice also lists the following information:

Title of Proposal: PHA-Owned or Leased Projects, Maintenance and Operation—Resident Allowance for Utilities Documentation.

OMB Control Number: 2577-0062.

Description of the need for the information and proposed use: Public Housing Agencies (PHAs) provide their residents with reasonable amounts of utilities a part of Family Gross rents. These amounts are called Tenant Allowance for utilities. HUD regulations provide criteria which PHAs are to use to determine utility allowances. In order for PHAs to prove that their allowances reflect reasonable amounts of utilities, there is a need for documentation on how it is determined.

Agency form numbers, if applicable: None.

Members of affected public: State or Local Government.

Estimation of the total number of hours needed to pare the information collection including number of respondents, frequency of response, and hours of response: 3400 respondents, one-time documentation, 1.9 hour average per documentation, 6,236 total recordkeeping burden.

Status of the proposed information collection: Reinstatement, without change.

Authority: Section 3506 of the Paperwork Reduction Act of 1995, 44 U.S.C. Chapter 35, as amended.

Dated: March 31, 2003.
Michael Liu,
Assistant Secretary for Public and Indian Housing.

[FR Doc. 03-8277 Filed 4-4-03; 8:45 am]

BILLING CODE 4210-33-P